DEPARTMENT OF DEFENSE

Department of the Army

Lake Eufaula Advisory Committee Meeting Notice

AGENCY: Department of the Army, U.S. Army Corps of Engineers, DoD.

ACTION: Notice of open committee meeting.

SUMMARY: The Department of the Army is publishing this notice to announce the following Federal advisory committee meeting of the Lake Eufaula Advisory Committee (LEAC). The meeting is open to the public.

DATES: The Committee will meet from 10:00 a.m.-12:00 p.m. on Monday, December 12, 2016.

ADDRESSES: The meeting will be held at Three Forks Harbor, 5201 Three Forks Road, Fort Gibson, OK 74434.

FOR FURTHER INFORMATION CONTACT: Mr. Jeff Knack; Designated Federal Officer (DFO) for the Committee, in writing at Eufaula Lake Office, 102 E. BK 200 Rd, Stigler, OK 74462-1829, or by email at Jeff.Knack@usace.army.mil, or by phone at 1-918-484-5135.

SUPPLEMENTARY INFORMATION: This meeting is being held under the provisions of the Federal Advisory Committee Act of 1972 (5 U.S.C., Appendix, as amended), the Sunshine in the Government Act of 1976 (U.S.C. 552b, as amended) and 41 Code of the Federal Regulations (CFR 102-3.150).

Purpose of the Meeting: The Lake Eufaula Advisory Committee is an independent Federal advisory committee established as directed by Section 3133(b) of the Water Resources Development Act of 2007 (WRDA 2007) (Pub. L. 110-114). The committee is advisory in nature only with duties to include providing information and recommendations to the Corps of Engineers regarding operations of Eufaula Lake, Oklahoma for project purposes. In accordance with Sections 3133(c)(2) and 3133(d)(1) of WRDA 2007, the committee will also provide recommendations on a reallocation study concerning current and future use of the Lake Eufaula storage capacity for authorized project purposes as well as a subsequent pool management plan.

Agenda: This will be the second meeting of the LEAC. The committee will nominate a new committee member to replace the chair currently authorized for the Muscogee Creek Nation, have a question and answer session with U.S. Army Corps of Engineers representatives about Eufaula Lake's development and management, discuss white papers generated from first meeting about what each member hopes to see this committee accomplish, and discuss future direction.

Public's Accessibility to the Meeting: Pursuant to 5 U.S.C. 552b and 41 CFR 102-3.140 through 102-3.165, and the availability of space, this meeting is open to the public. Seating is on a first-come basis. The Three Forks Harbor is readily accessible to and usable by persons with disabilities. For additional information about public access procedures, contact Mr. Jeff Knack, the Committee's Designated Federal Officer, at the email address or telephone number listed in the FOR FURTHER INFORMATION CONTACT section.

Written Comments and Statements: Pursuant to 41 CFR 102-3.105(j) and 102-3.140 and section 10(a)(3) of the Federal Advisory Committee Act, the public or interested organizations may submit written comments or statements to the Committee, in response to the stated agenda of the open meeting or in regard to the Committee's mission in general. Written comments or statements should be submitted to Mr. Knack, the Committee's Designated Federal Officer, via electronic mail, the preferred mode of submission, at the address listed in the FOR FURTHER INFORMATION CONTACT section. Each page of the comment or statement must include the author's name, title or affiliation, address, and daytime phone number. Written comments or statements being submitted in response to the agenda set forth in this notice must be received by the Designated Federal Officer at least seven business days prior to the meeting to be considered by the Committee. The Designated Federal Officer and the Committee Chair will review all timely submitted written comments or statements and ensure the comments are provided to all members of the Committee before the meeting. Written comments or statements received after this date may not be provided to the Committee until its next meeting. Please note that because the LEAC operates under the provisions of the Federal Advisory Committee Act, as amended, all written comments will be treated as public documents and will be made available for public inspection.

Pursuant to 41 CFR 102-3.140d, the Committee is not obligated to allow a member of the public to speak or otherwise address the Committee during the meeting. Members of the public will be permitted to make verbal comments during the Committee meeting only at the time and in the manner described below. If a member of the public is interested in making a verbal comment at the open meeting, that individual must submit a request, with a brief statement of the subject matter to be addressed by the comment, at least three (3) days in advance to the Committee's Designated Federal Officer, via electronic mail, the preferred mode of submission, at the addresses listed in the FOR FURTHER INFORMATION CONTACT section. The Designated Federal Officer will log each request, in the order received, and in consultation with the Committee Chair determine whether the subject matter of each comment is relevant to the Committee's mission and/or the topics to be addressed in this public meeting. A 15-minute period near the end of meeting will be available for verbal public comments. Members of the public who have requested to make a verbal comment and whose comments have been deemed relevant under the process described above, will be allotted no more than three (3) minutes during this period, and will be invited to speak in the order in which their requests were received by the Designated Federal Officer.

Brenda S. Bowen,
Army Federal Register Liaison Officer.

[FR Doc. 2016-27783 Filed 11-17-16; 8:45 am]

BILLING CODE 3720-58-P